DEPARTMENT OF TRANSPORTATION

Federal Aviation Administration

14 CFR Part 39

[Docket No. FAA-2025-0630; Project Identifier MCAI-2023-00518-R]

RIN 2120-AA64

Airworthiness Directives; Airbus Helicopters Deutschland GmbH Helicopters

AGENCY: Federal Aviation Administration (FAA), DOT.

ACTION: Notice of proposed rulemaking (NPRM).

SUMMARY: The FAA proposes to adopt a new airworthiness directive (AD) for all Airbus Helicopters Deutschland GmbH Model EC135P1, EC135P2, EC135P2+, EC135P3, EC135T1, EC135T2, EC135T2+, EC135T3, EC635T2+, MBB-BK 117 C-2, MBB-BK 117 D-2, and MBB-BK 117 D-3 helicopters. This proposed AD was prompted by a review of design data and the determination for recalculation of accumulated hoist boom cycles (cycles) and repetitive inspections. This proposed AD would require determining the total cycles of certain hoist boom assemblies, inspecting those hoist boom assemblies, and depending on the results, taking corrective action. This proposed AD would also prohibit installing those hoist boom assemblies unless certain requirements are met. These actions are specified in a European Union Aviation Safety Agency (EASA) AD, which is proposed for incorporation by reference. The FAA is proposing this AD to address the unsafe condition on these products.

DATES: The FAA must receive comments on this NPRM by June 9, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0630; or in person at Docket Operations between 9 a.m. and 5 p.m., Monday through Friday, except Federal holidays. The AD docket contains this NPRM, the mandatory continuing airworthiness information (MCAI), any comments received, and other information. The street address for Docket Operations is listed above.

Material Incorporated by Reference:

• For EASA material identified in this proposed AD, contact EASA, Konrad-Adenauer-Ufer 3, 50668 Cologne, Germany; phone: +49 221 8999 000; email: ADs@easa.europa.eu. You may find this material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-0630.

FOR FURTHER INFORMATION CONTACT: Steven Warwick, Aviation Safety Engineer, FAA, 1600 Stewart Avenue, Suite 410, Westbury, NY 11590; phone: (817) 222-5225; email: steven.r.warwick@faa.gov.

SUPPLEMENTARY INFORMATION:

Comments Invited

The FAA invites you to send any written relevant data, views, or arguments about this proposal. Send your comments to an address listed under the ADDRESSES section. Include “Docket No. FAA-2025-0630; Project Identifier MCAI-2023-00518-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Steven Warwick, Aviation Safety Engineer, FAA, 1600 Stewart Avenue, Suite 410, Westbury, NY 11590. Any commentary that the FAA receives which is not specifically designated as CBI will be placed in the public docket for this rulemaking.

Background

EASA, which is the Technical Agent for the Member States of the European Union, has issued EASA AD 2023-0066, dated March 24, 2023 (EASA AD 2023-0066) (also referred to as the MCAI), to correct an unsafe condition on Airbus Helicopters Deutschland GmbH Model EC135 P1, EC135 P2, EC135 P2+, EC135 P3, EC135 T1, EC135 T2, EC135 T2+, EC135 T3, EC635 P2+, EC635 P3, EC635 T1, EC635 T2+, EC635 T3, MBB-BK117 C-2, MBB-BK117 D-2, MBB-BK117 D-3, and MBB-BK117 D-3m helicopters.

The MCAI states that due to a review of design data, it was determined that hoist boom assemblies, part number (P/N) 44301-500, 44307-500, and 44307-500-1, must be inspected repetitively based on accumulated cycles. The additional inspection criteria were due to a new fatigue calculation to factor in external load, particularly human external cargo. The FAA is proposing this AD to prevent failure of the hoist boom assembly, which could lead to in-flight loss of the hoist load and consequent injury to occupants.

You may examine the EASA AD in the AD docket at regulations.gov under Docket No. FAA-2025-0630.

Material Incorporated by Reference Under 1 CFR Part 51

The FAA reviewed EASA AD 2023-0066, which specifies procedures for inspecting certain part-numbered hoist boom assemblies at certain intervals and, depending on the results, replacing or removing certain parts or taking further corrective action to resolve the discrepancy [crack, deformation, dent, corrosion, or other damage] or replacing the hoist boom assembly. EASA AD 2023-0066 also provides a terminating action for the inspections and prohibits installing those part-numbered hoist boom assemblies on any helicopter unless its requirements are met.

This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI referenced above. The FAA is issuing this NPRM after determining that the unsafe condition described previously is likely to exist or develop on other products of the same type designs.

Proposed AD Requirements in This NPRM

This proposed AD would require accomplishing the actions specified in EASA AD 2023-0066, described previously, as incorporated by reference, except for any differences identified as exceptions in the regulatory text of this proposed AD and except as discussed under “Differences Between this Proposed AD and the MCAI.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2023-0066 by reference in the FAA final rule. This proposed AD would, therefore, require compliance with EASA AD 2023-0066 in its entirety through that incorporation, except for any differences identified as exceptions in the regulatory text of this proposed AD. Using common terms that are the same as the heading of a particular section in EASA AD 2023-0066 does not mean that operators need comply only with that section. For example, where the AD requirement refers to “all required actions and compliance times,” compliance with this AD requirement is not limited to the section titled “Required Action(s) and Compliance Time(s)” in EASA AD 2023-0066. Material referenced in EASA AD 2023-0066 for compliance will be available at regulations.gov under Docket No. FAA-2025-0630 after the FAA final rule is published.

Differences Between This Proposed AD and the MCAI

The MCAI applies to Model EC635 P2+, EC635 P3, EC635 T1, EC635 T3, and MBB-BK117 D-3m helicopters, whereas this proposed AD would not because these model helicopters are not FAA type-certificated.

The MCAI requires accomplishing a corrective action in accordance with the instructions of the service material, whereas this proposed AD would require repairing or replacing affected parts that have certain discrepancies, within allowable limits, as described in this proposed AD.

Costs of Compliance

The FAA estimates that this AD, if adopted as proposed, would affect 732 helicopters of U.S. registry. Labor rates are estimated at $85 per hour. Based on these numbers, the FAA estimates the following costs to comply with this proposed AD.

If required, determining the total cycles would take 0.5 work-hour for an estimated cost of $43 per helicopter. Inspecting a hoist boom assembly would take 4 work-hours for an estimated cost of $340 per helicopter and $248,880 for the U.S. fleet, per inspection cycle.

Repairing any surface deformation, damage, or corrosion that is within allowable limits would take up to 1 work-hour and parts would cost a nominal amount for an estimated cost of up to $85 per helicopter. Replacing a hoist boom assembly (which includes a boom elbow, boom tube, and boom adapter) would take up to 5 work-hours (depending on configuration) and parts would cost $68,188 to up to $88,812 (depending on P/N) for an estimated cost of up to $68,613 to $89,237 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters Deutschland GmbH: Docket No. FAA-2025-0630; Project Identifier MCAI-2023-00518-R.

(a) Comments Due Date

The FAA must receive comments on this airworthiness directive (AD) by June 9, 2025.

(b) Affected ADs

None.

(c) Applicability

This AD applies to Airbus Helicopters Deutschland GmbH Model EC135P1, EC135P2, EC135P2+, EC135P3, EC135T1, EC135T2, EC135T2+, EC135T3, EC635T2+, MBB-BK 117 C-2, MBB-BK 117 D-2, and MBB-BK 117 D-3 helicopters, certificated in any category.

Note 1 to paragraph (c): Helicopters with an EC135P3H designation are Model EC135P3 helicopters, helicopters with an EC135T3H designation are Model EC135T3 helicopters, and helicopters with an MBB-BK 117C-2e designation are Model MBB-BK 117C-2 helicopters.

(d) Subject

Joint Aircraft System Component (JASC) Code: 2500, Cabin equipment/furnishings.

(e) Unsafe Condition

This AD was prompted by a review of design data and the determination for a new calculation of accumulated hoist boom cycles (cycles) to factor in external load and repetitive inspections. The FAA is issuing this AD to prevent failure of the hoist boom assembly. The unsafe condition, if not addressed, could result in in-flight loss of the hoist load and subsequent injury to occupants.

(f) Compliance

Comply with this AD within the compliance times specified, unless already done.

(g) Requirements

Except as specified in paragraphs (h) and (i) of this AD: Comply with all required actions and compliance times specified in, and in accordance with, European Union Aviation Safety Agency AD 2023-0066, dated March 24, 2023 (EASA AD 2023-0066).

(h) Exceptions to EASA AD 2023-0066

(1) Where EASA AD 2023-0066 refers to its effective date, this AD requires using the effective date of this AD.

(2) Where paragraphs (3) and (4) of EASA AD 2023-0066 refer to any discrepancy, for the purposes of this AD, a discrepancy is identified as surface deformation, damage, or corrosion that is within allowable limits.

(3) Where paragraph (3) of EASA AD 2023-0066 specifies “before next hoist operation, accomplish the applicable corrective action in accordance with the instructions of the ASB,” this AD requires replacing that text with “before next hoist operation, repair any deformation, damage, and corrosion that is within the allowable limit, apply a protective chemical film, and restore the protective finish. If the inspection criteria fails (if there is surface deformation, damage, or corrosion that exceeds the allowable limit, any damage or corrosion in a riveted bore hole, or any crack), before further flight, replace the hoist boom assembly (which includes the support assembly) with a serviceable part, as defined in EASA AD 2023-0066.”

(4) This AD does not adopt the “Remarks” section of EASA AD 2023-0066.

(i) No Reporting Requirement

Although the material referenced in EASA AD 2023-0066 specifies to submit certain information to the manufacturer, this AD does not require that action.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j) of this AD and email to: AMOC@faa.gov.

(2) Before using any approved AMOC, notify your appropriate principal inspector, or lacking a principal inspector, the manager of the local flight standards district office/certificate holding district office.

(j) Additional Information

For more information about this AD, contact Steven Warwick, Aviation Safety Engineer, FAA, 1600 Stewart Avenue, Suite 410, Westbury, NY 11590; phone: (817) 222-5225; email: steven.r.warwick@faa.gov.

(k) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2023-0066, dated March 24, 2023.

(ii) [Reserved]

(3) For EASA material identified in this AD, contact EASA, Konrad-Adenauer-Ufer 3, 50668 Cologne, Germany; phone: +49 221 8999 000; email: ADs@easa.europa.eu; website: easa.europa.eu. You may find this material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on April 21, 2025.
Steven W. Thompson,
Acting Deputy Director, Compliance & Airworthiness Division, Aircraft Certification Service.

[FR Doc. 2025-07112 Filed 4-24-25; 8:45 am]

BILLING CODE 4910-13-P